DEPARTMENT OF TRANSPORTATION

Federal Aviation Administration

14 CFR Part 39

[Docket No. FAA-2010-1112; Directorate Identifier 2010-NM-051-AD; Amendment 39-16607; AD 2011-04-07]

RIN 2120-AA64

Airworthiness Directives; Fokker Services B.V. Model F.28 Mark 0070 and 0100 Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

The flight crew of a F28 Mark 0070 (Fokker 70) aeroplane received a MLG [main landing gear] unsafe message after landing gear down selection during approach. * * *

Inspection just after landing revealed a lot of ice near the LH [left-hand] MLG downlock actuator. * * *

Based on the quantity and location of the ice, it is considered highly likely that the ice had formed between the upper end of the downlock actuator and the upper side brace, and was accumulated during taxi on slush-and snow-contaminated taxiways and runway at the departure airport.

Ice in this location prevents the actuator from turning freely relative to the upper side brace during landing gear down selection, likely resulting in failure of the piston rod. This condition, if not corrected, could lead to further cases of MLG extension problems, possibly resulting in loss of control of the aeroplane during landing roll-out.

* * * * *

We are issuing this AD to require actions to correct the unsafe condition on these products.

DATES: This AD becomes effective March 22, 2011.

The Director of the Federal Register approved the incorporation by reference of certain publications listed in this AD as of March 22, 2011.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Tom Rodriguez, Aerospace Engineer, International Branch, ANM-116, Transport Airplane Directorate, FAA, 1601 Lind Avenue, SW., Renton, Washington 98057-3356; telephone (425) 227-1137; fax (425) 227-1149.

SUPPLEMENTARY INFORMATION:

Discussion

We issued a notice of proposed rulemaking (NPRM) to amend 14 CFR part 39 to include an AD that would apply to the specified products. That NPRM was published in the Federal Register on November 15, 2010 (75 FR 69606). That NPRM proposed to correct an unsafe condition for the specified products. The MCAI states:

The flight crew of a F28 Mark 0070 (Fokker 70) aeroplane received a MLG [main landing gear] unsafe message after landing gear down selection during approach. After cycling the landing gear, only a LH [left-hand] MLG unsafe indication remained. A go-around was initiated and alternate landing gear down selection was performed twice, but the LH MLG did not lock down. During final approach, without further flight crew action, all 3 green lights illuminated and an uneventful landing was made.

Inspection just after landing revealed a lot of ice near the LH MLG downlock actuator. Further investigation revealed that the piston rod of the downlock actuator had failed at the threaded end close to the eye end, which is attached to the lower lock link, and that the piston rod was broken in an overload by bending in the neck close to the threaded end.

Based on the quantity and location of the ice, it is considered highly likely that the ice had formed between the upper end of the downlock actuator and the upper side brace, and was accumulated during taxi on slush-and snow-contaminated taxiways and runway at the departure airport.

Ice in this location prevents the actuator from turning freely relative to the upper side brace during landing gear down selection, likely resulting in failure of the piston rod. This condition, if not corrected, could lead to further cases of MLG extension problems, possibly resulting in loss of control of the aeroplane during landing roll-out.

To address this unsafe condition and prevent the accumulation of water, slush and/or snow, Goodrich, the MLG manufacturer, has introduced a new upper side brace, Part Number (P/N) 41350-3, which has two additional drain holes. Goodrich Service Bulletin (SB) 41350-32-25 describes the modification of the P/N 41350-1 MLG upper side brace, introducing the two additional drain holes and consequent re-identification of the part to P/N 41350-3.

For the reasons described above, this AD requires modification of both (LH and RH [right-hand]) P/N 41350-1 MLG upper side braces, or replacement of the P/N 41350-1 upper side braces with modified P/N 41350-3 upper side braces.

You may obtain further information by examining the MCAI in the AD docket.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Costs of Compliance

We estimate that this AD will affect 6 products of U.S. registry. We also estimate that it will take about 16 work-hours per product to comply with the basic requirements of this AD. The average labor rate is $85 per work-hour. Required parts will cost about $0 per product. Where the service information lists required parts costs that are covered under warranty, we have assumed that there will be no charge for these parts. As we do not control warranty coverage for affected parties, some parties may incur costs higher than estimated here. Based on these figures, we estimate the cost of this AD to the U.S. operators to be $8,160, or $1,360 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-04-07 Fokker Services B.V.: Amendment 39-16607. Docket No. FAA-2010-1112; Directorate Identifier 2010-NM-051-AD.

Effective Date

(a) This airworthiness directive (AD) becomes effective March 22, 2011.

Affected ADs

(b) None.

Applicability

(c) This AD applies to Fokker Services B.V. Model F.28 Mark 0070 and 0100 airplanes, certificated in any category; all serial numbers, if equipped with Goodrich (formerly Menasco, Colt Industries) main landing gears (MLGs) fitted with MLG upper side braces having part number (P/N) 41350-1.

Subject

(d) Air Transport Association (ATA) of America Code 32: Landing Gear.

Reason

(e) The mandatory continuing airworthiness information (MCAI) states:

The flight crew of a F28 Mark 0070 (Fokker 70) aeroplane received a MLG [main landing gear] unsafe message after landing gear down selection during approach. * * *

Inspection just after landing revealed a lot of ice near the LH [left-hand] MLG downlock actuator. * * *

Based on the quantity and location of the ice, it is considered highly likely that the ice had formed between the upper end of the downlock actuator and the upper side brace, and was accumulated during taxi on slush- and snow-contaminated taxiways and runway at the departure airport.

Ice in this location prevents the actuator from turning freely relative to the upper side brace during landing gear down selection, likely resulting in failure of the piston rod. This condition, if not corrected, could lead to further cases of MLG extension problems, possibly resulting in loss of control of the aeroplane during landing roll-out.

* * * * *

Compliance

(f) You are responsible for having the actions required by this AD performed within the compliance times specified, unless the actions have already been done.

Actions

(g) Within 8,000 flight cycles after the effective date of this AD, modify or replace the side stay upper braces of the left-hand and right-hand MLG, in accordance with the Accomplishment Instructions of Goodrich Service Bulletin 41350-32-25, dated January 30, 2009; and Fokker Service Bulletin SBF100-32-157, Revision 1, dated October 7, 2009.

(h) After modifying the side stay upper braces of the left-hand and right-hand MLG as required by paragraph (g) of this AD, do not install any Goodrich (formerly Menasco, Colt Industries) side stay upper brace assembly having P/N 41350-1 on any airplane.

(i) After modifying the side stay upper braces of the left-hand and right-hand MLG as required by paragraph (g) of this AD, do not install any Goodrich (formerly Menasco, Colt Industries) MLG on any airplane, unless the replacement MLG has side stay upper braces having P/N 41350-3.

FAA AD Differences

Note 1: This AD differs from the MCAI and/or service information as follows: No differences.

Other FAA AD Provisions

(j) The following provisions also apply to this AD:

(1) Alternative Methods of Compliance (AMOCs): The Manager, International Branch, ANM-116, Transport Airplane Directorate, FAA, has the authority to approve AMOCs for this AD, if requested using the procedures found in 14 CFR 39.19. Send information to ATTN: Tom Rodriguez, Aerospace Engineer, International Branch, ANM-116, Transport Airplane Directorate, FAA, 1601 Lind Avenue, SW., Renton, Washington 98057-3356; telephone (425) 227-1137; fax (425) 227-1149. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A Federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

Related Information

(k) Refer to MCAI European Aviation Safety Agency Airworthiness Directive 2009-0268, dated December 17, 2009; Fokker Service Bulletin SBF100-32-157, Revision 1, dated October 7, 2009; and Goodrich Service Bulletin 41350-32-25, dated January 30, 2009; for related information.

Material Incorporated by Reference

(l) You must use Fokker Service Bulletin SBF100-32-157, Revision 1, dated October 7, 2009; and Goodrich Service Bulletin 41350-32-25, dated January 30, 2009; to do the actions required by this AD, unless the AD specifies otherwise.

(1) The Director of the Federal Register approved the incorporation by reference of this service information under 5 U.S.C. 552(a) and 1 CFR part 51.

(2) For Fokker service information identified in this AD, contact Fokker Services B.V., Technical Services Dept., P.O. Box 231, 2150 AE Nieuw-Vennep, the Netherlands; telephone +31 (0)252-627-350; fax +31 (0)252-627-211; e-mail technicalservices.fokkerservices@stork.com; Internet http://www.myfokkerfleet.com. For Goodrich service information identified in this AD, contact Goodrich Corporation, Landing Gear, 1400 South Service Road, West Oakville L6L 5Y7, Ontario, Canada; telephone 905-825-1568; e-mail jean.breed@goodrich.com; Internet http://www.goodrich.com/TechPubs.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on February 3, 2011.
Ali Bahrami,
Manager, Transport Airplane Directorate, Aircraft Certification Service.

[FR Doc. 2011-3071 Filed 2-14-11; 8:45 am]

BILLING CODE 4910-13-P